U.S.-CHINA ECONOMIC AND SECURITY REVIEW COMMISSION

Notice of Open Public Hearing

AGENCY: U.S.-China Economic and Security Review Commission.

ACTION: Notice of open public hearing—May 11, 2011 Washington, DC.

SUMMARY: Notice is hereby given of the following hearing of the U.S.-China Economic and Security Review Commission.

Name: William A. Reinsch, Chairman of the U.S.-China Economic and Security Review Commission.

The Commission is mandated by Congress to investigate, assess, and report to Congress annually on “the national security implications of the economic relationship between the United States and the People's Republic of China.”

Pursuant to this mandate, the Commission will hold a public hearing in Washington, DC on May 11, 2011, to address “The Implications of China's Military and Civil Space Programs.”

Background: This is the seventh public hearing the Commission will hold during its 2011 report cycle to collect input from leading academic, industry, and government experts on national security implications of the U.S. bilateral trade and economic relationship with China. The May 11 hearing will examine China's military and civil space programming and implications for the United States. The hearing will be co-chaired by Commissioners Daniel Blumenthal and Michael Wessel.

Any interested party may file a written statement by May 11, 2011, by mailing to the contact below. A portion of each panel will include a question and answer period between the Commissioners and the witnesses.

Transcripts of past Commission public hearings may be obtained from the USCC Web Site http://www.uscc.gov.

Date and Time: Wednesday, May 11, 2011, 8:55 a.m.-3:00 p.m. Eastern Standard Time. A detailed agenda for the hearing and roundtable will be posted to the Commission's Web Site at http://www.uscc.gov as soon as available. Please check the Web site for possible changes to the hearing schedule.

ADDRESSES: The hearing will be held in Room H-309 of the U.S. Capitol Building, located at Constitution Avenue and 1st Street, NE., in Washington, DC 20002.

FOR FURTHER INFORMATION CONTACT: Any member of the public seeking further information concerning the hearing should contact Michael Danis, Executive Director for the U.S.-China Economic and Security Review Commission, 444 North Capitol Street, NW., Suite 602, Washington, DC 20001; phone: 202-624-1407, or via e-mail at contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: April 27, 2011.
Michael Danis,
Executive Director, U.S.-China Economic and Security Review Commission.

[FR Doc. 2011-10617 Filed 4-29-11; 8:45 am]

BILLING CODE 1137-00-P